FEDERAL COMMUNICATIONS COMMISSION

47 CFR Part 54

[CC Docket Nos. 96-45, 97-21, and 02-6; FCC 04-181]

Federal-State Joint Board on Universal Service; Changes to the Board of Directors for the National Exchange Carrier Association, Inc.; and Schools and Libraries Universal Service Support Mechanism

AGENCY: Federal Communications Commission.

ACTION: Final rule, correction.

SUMMARY: This document corrects an error in the dates and supplementary sections of a Federal Register document regarding the Commission addressing pending petitions for reconsideration filed by Sprint Corporation, United States Telecom Association, Inc., and MCI Worldcom, Inc. The Commission agreed with petitioners that the Commission should seek recovery from schools and libraries in certain instances, and therefore grants their petitions in part. The Commission resolved the limited question raised in the Second Further Notice of Proposed Rulemaking (Second FNPRM) in CC Docket No. 02-06 of from whom the Commission will seek recovery of schools and libraries funds disbursed in violation of the statute or a rule. The Commission modified its requirements in this area so that recovery will be sought from whichever party or parties has committed the statutory or rule violation. The summary was published in the Federal Register on September 17, 2004.

DATES: Effective October 17, 2004.

FOR FURTHER INFORMATION CONTACT: Jennifer Schneider, Attorney, Telecommunications Access Policy Division, Wireline Competition Bureau, (202) 418-7400.

SUPPLEMENTARY INFORMATION: This summary contains a correction to the dates and supplementary sections of a Federal Register summary, 69 FR 55983 (September 17, 2004). The full text of the Commission's Order on Reconsideration and Fourth Report and Order in CC Docket Nos. 96-45, 97-21, and 02-6, FCC 04-181 released on July 30, 2004 is available for public inspection during regular business hours in the FCC Reference Center, Room CY-A257, 445 Twelfth Street, SW., Washington, DC 20554.

In rule FR Doc. 04-21005 published September 17, 2004 (69 FR 55983) make the following corrections.

1. On page 55983, in the first column, in the dates section, remove “September 17, 2004” and add in its place “October 17, 2004.”

2. On page 55985, in the second column, in paragraph 24, remove “September 17, 2004” and add in its place “October 17, 2004.”

Federal Communications Commission.
Marlene H. Dortch,
Secretary.

[FR Doc. 04-23608 Filed 10-21-04; 8:45 am]

BILLING CODE 6712-01-P